FEDERAL RESERVE SYSTEM

Formations of, Acquisitions by, and Mergers of Bank Holding Companies; Correction

This notice corrects a notice (FR Doc. 2014-06930) published on page 17542 of the issue for Friday, March 28, 2014.

Under the Federal Reserve Bank of Chicago heading, the entry for Minier Financial, Inc., Employee Stock ownership Plan with 401(k) Provisions, Minier, Illinois, is revised to read as follows:

1. Minier Financial, Inc. Employee Stock Ownership Plan with 401(k) Provisions, Minier, Illinois; to acquire an additional 14 percent, for a total of 51 percent, of the voting shares of Minier Financial, Inc., and thereby indirectly acquire additional voting shares of First Farmers State Bank, both in Minier, Illinois.

In addition, under the Federal Reserve Bank of Minneapolis heading, the entry for Alerus Financial Corporation, Grand Forks, North Dakota, is revised to read as follows:

1. Alerus Financial Corporation, Grand Forks, North Dakota; to acquire 100 percent of the voting shares of Private Bancorporation, Inc., and thereby indirectly acquire voting shares of Private Bank Minnesota, both in Minneapolis, Minnesota.

Comments on these applications must be received by April 22, 2014.

Board of Governors of the Federal Reserve System, April 1, 2014.
Michael J. Lewandowski,
Associate Secretary of the Board.

[FR Doc. 2014-07554 Filed 4-3-14; 8:45 am]

BILLING CODE 6210-01-P